DEPARTMENT OF HOMELAND SECURITY

Coast Guard

33 CFR Part 165

[Docket No. USCG-2022-0096]

Safety Zone; Four Seasons Hotel Fireworks Display Event, New Orleans, LA

AGENCY: Coast Guard, DHS.

ACTION: Notification of enforcement of regulation.

SUMMARY: The Coast Guard will enforce a temporary safety zone for a fireworks display located on the navigable waters of the Lower Mississippi River (LMR) between Mile Marker (MM) 94.5 and MM 95.5 Above Head of Passes (AHP). This action is needed to provide for the safety of life on these navigable waterways during the event. During the enforcement periods, the operator of any vessel in the regulated area must comply with directions from the Captain of the Port or designated representative.

DATES: The regulations in 33 CFR 165.845 will be enforced from 8:45 p.m. to 10 p.m. on May 18, 2022.

FOR FURTHER INFORMATION CONTACT: If you have questions about this notification of enforcement, call or email Lieutenant Commander William Stewart, Sector New Orleans, U.S. Coast Guard; telephone 504-365-2246, email William.A.Stewart@uscg.mil.

SUPPLEMENTARY INFORMATION: The Coast Guard will enforce safety zone located in 33 CFR 165.845 for the Four Seasons Hotel Fireworks Display event. The regulations will be enforced from 8:45 p.m. through 10 p.m. on May 18, 2022. This action is being taken to provide for the safety of life on navigable waterways during this event, which will be located between MM 94.5 and MM 95.5 AHP, LMR, LA. During the enforcement periods, the operator of any vessel in the regulated area must comply with directions from the Captain of the Port or designated representative.

In addition to this notification of enforcement in the Federal Register, the Coast Guard plans to provide notification of this enforcement period via Marine Safety Information Bulletins (MSIBs), Local Notice to Mariners (LNMs), and/or Broadcast Notice to Mariners (BNMs).

Dated: May 2, 2022.
K.K. Denning,
Captain, U.S. Coast Guard, Captain of the Port Sector New Orleans.

[FR Doc. 2022-09788 Filed 5-5-22; 8:45 am]

BILLING CODE 9110-04-P